DEPARTMENT OF ENERGY

Federal Energy Regulatory Commission

[Docket No. EL07-10-000]

Wisconsin Public Power Inc.; Notice of Filing

October 24, 2006.

Take notice that on October 11, 2006, Wisconsin Public Power Inc. (WPPI) filed an initial Rate Schedule No. 3 and supporting cost data which specifies its revenue requirement for cost based reactive supply and voltage control from Generation Sources Service, as to the resources located in one pricing area of the Midwest Independent Transmission System Operator, Inc. (MISO). WPPI will provide the subject Reactive Power Service from the Island Street Peaking Plant, which is sited in Kaukauna, Wisconsin in the Wisconsin Electric Power Company subzone of the American Transmission Company, LLC pricing zone within the control area administered by MISO.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on November 13, 2006.

Magalie R. Salas,
Secretary.

[FR Doc. E6-18131 Filed 10-27-06; 8:45 am]

BILLING CODE 6717-01-P